GENERAL SERVICES ADMINISTRATION

Record of Decision for the Department of Homeland Security Headquarters Consolidation at St. Elizabeths in Southeast, Washington, DC

AGENCY: National Capital Region, U.S. General Services Administration (GSA).

ACTION: Notice; record of decision.

SUMMARY: Pursuant to the requirements of the National Environmental Policy Act of 1969 (NEPA), 42 U.S.C. 4321-4347, the Council on Environmental Quality Regulations (40 CFR parts 1500-1508), GSA Order PBS P 1095.1F (Environmental considerations in decision-making, dated October 19, 1999), and the GSA Public Buildings Service NEPA Desk Guide, dated October 1999, on December 16, 2008, GSA issued a Record of Decision on the DHS Headquarters Consolidation at St. Elizabeths Final Environmental Impact Statement (EIS) (GSA, November 2008) to implement Campus Redevelopment Alternative 5 as defined in the Final EIS. The complete Record of Decision (ROD) can be viewed on the project Web site: http://www.stelizabethswestcampus.com.

FOR FURTHER INFORMATION CONTACT: Ms. Denise Decker, NEPA Lead, National Capital Region, General Services Administration, at (202) 538-5643.

SUPPLEMENTARY INFORMATION: Decision:

It is the decision of the Acting Regional Administrator of GSA, National Capital Region to:

(1) Implement Campus Redevelopment Alternative 5, which requires part of the 4.5 million GSF of secure office space, plus parking, needed for the DHS consolidated headquarters to be located on the St. Elizabeths East Campus. Alternative 5 includes the construction of 3.8 million GSF of office and shared use space in both new and adaptively re-used buildings, together with 3,459 parking spaces for the consolidation of DHS Headquarters at the St. Elizabeths West Campus in Southeast, Washington, DC. Alternative 5 also includes an additional 750,000 GSF of office and shared use space together with 775 parking spaces that will be located on the St. Elizabeths East Campus. The selection of Alternative 5 contemplates the use of the East Campus parcel for the project. However, the ROD does not authorize any ground disturbing activities on the East Campus. Implementation of ground disturbing activities on the East Campus will be considered in a separate EIS and, unless the no-build alternative is selected, implemented in a separate ROD. In accordance with the conditions set forth in the December 16, 2008 ROD, certain West Campus ground disturbing activities are authorized prior to completion of the contemplated East Campus ROD.

(2) Implement Martin Luther King, Jr. Avenue Traffic Improvement Alternative 2, as defined in Volume 2 of the FEIS. Alternative 2 accommodates left turning lanes into Gates 1 and 2 of the West Campus. Selection of this alternative is based on coordination with, and is subject to, subsequent final determinations of the District of Columbia Department of Transportation (DDOT). Alternative 2 may be implemented immediately after approval by DDOT.

(3) Implement, in cooperation with the Federal Highway Administration (FHWA), Interchange Alternative I-2, as described in Volume II of the Final EIS. Alternative I-2 provides for the construction of a new access road for St. Elizabeths West Campus, from Firth Sterling Avenue to Malcolm X Avenue and connecting to the Malcolm X interchange as outlined in Volume 2 of the Final EIS. Selection of this alternative is based on coordination with FHWA and is subject to its subsequent final determinations.

The ROD documents the specific components of GSA's decision and the rationale for the decision. This decision is based on information and analyses contained in the Draft EIS issued in September 2007; the Final EIS issued in November 2008; the comments of Federal and State agencies, stakeholder organizations, members of the public, and elected officials; and other information in the administrative record.

Issued December 16, 2008 by John F. Phelps, Acting Regional Administrator, General Services Administration, National Capital Region.
Thomas James,
Deputy Assistant Regional Administrator, Public Buildings Service, National Capital Region.

[FR Doc. E9-7469 Filed 4-2-09; 8:45 am]

BILLING CODE 6820-23-P